FEDERAL COMMUNICATIONS COMMISSION

47 CFR Part 73

[DA 02-499, MM Docket No. 01-335, RM-10338]

Digital Television Broadcast Service; Charleston, SC

AGENCY: Federal Communications Commission.

ACTION: Final rule.

SUMMARY: The Commission, at the request of Media General Communications, Inc., licensee of station WCBD-TV, NTSC channel 2, Charleston, South Carolina, substitutes DTV channel 50 for DTV channel 59. See 66 FR 66383, December 26, 2001. DTV channel 50 can be allotted to Charleston, South Carolina, in compliance with the principle community coverage requirements of Section 73.625(a) at reference coordinates 32-56-24 N. and 79-41-45 W. with a power of 1000, HAAT of 561 meters and with a DTV service population of 846 thousand.

With this action, this proceeding is terminated.

DATES: Effective April 22, 2002.

FOR FURTHER INFORMATION CONTACT: Pam Blumenthal, Mass Media Bureau, (202) 418-1600.

SUPPLEMENTARY INFORMATION: This is a synopsis of the Commission's Report and Order, MM Docket No. 01-335, adopted March 1, 2002, and released March 6, 2002. The full text of this document is available for public inspection and copying during regular business hours in the FCC Reference Information Center, Portals II, 445 12th Street, SW, Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§73.622 [Amended]

2. Section 73.622(b), the Table of Digital Television Allotments under South Carolina, is amended by removing DTV channel 59 and adding DTV channel 50 at Charleston.

Federal Communications Commission.
Barbara A. Kreisman,
Chief, Video Services Division, Mass Media Bureau.

[FR Doc. 02-5708 Filed 3-8-02; 8:45 am]

BILLING CODE 6712-01-P